DEPARTMENT OF THE INTERIOR

Fish and Wildlife Service

Revised Notice of Intent To Prepare a Comprehensive Conservation Plan and Associated Environmental Impact Statement for the South San Diego Bay Unit of the San Diego National Wildlife Refuge and the Sweetwater Marsh National Wildlife Refuge, San Diego County, CA.

AGENCY: Fish and Wildlife Service, Interior.

ACTION: Revised notice of intent.

SUMMARY: In accordance with the National Environmental Policy Act of 1969, as amended (NEPA), this Notice advises other agencies, Tribes, and the public that the U.S. Fish and Wildlife Service (Service) intends to prepare an Environmental Impact Statement (EIS) related to the Comprehensive Conservation Plan (CCP) for the South San Diego Bay Unit of the San Diego National Wildlife Refuge (NWR) and Sweetwater Marsh NWR. In this EIS, the Service will describe and evaluate a range of reasonable alternatives and the anticipated impacts of each. This information will be utilized in the draft CCP for the South San Diego Bay Unit of the San Diego NWR and Sweetwater Marsh NWR.

This Notice revises the Notice of June 23, 2000 (65 FR 39172). At that time, the Service had not yet determined whether an Environmental Assessment or EIS would be prepared. Based on information gathered and analyses conducted to date, and pursuant to NEPA guidance, the Service has since determined that an EIS will be prepared, and this Notice serves to announce that intention.

The original Notice announced two public scoping meetings and the opening of the public scoping comment period, which opened June 23, 2000, and closed July 31, 2000. Additional opportunities for public input were provided at five subsequent public workshops held since August 2000. This Notice does not re-open the public scoping comment period, as the only change since its publication has been the Service's decision to proceed with an EIS for this CCP. When the draft CCP and associated draft EIS are completed and made available, expected to occur in late spring 2002, the public will have additional opportunities to provide comments to the Service.

SUPPLEMENTARY INFORMATION:

Background

By Federal law, all lands within the National Wildlife Refuge System are to be managed in accordance with an approved CCP (16 U.S.C. 668dd-668ee). A CCP describes the desired future conditions of the refuge and provides long-range guidance and management direction to accomplish the purposes of the refuge, contribute to the mission of the National Wildlife Refuge System, and meet other relevant mandates. Additional goals of the CCP process include: (1) Conducting refuge planning in accordance with an ecosystem approach; (2) providing a forum for the public to comment on the type, extent, and compatibility of wildlife-dependent and other uses within the refuge area; (3) ensuring public involvement in refuge management decisions by providing a process for effective coordination, interaction, and cooperation with affected parties; (4) utilizing the best available science and sound professional judgement; and (5) ensuring that the six priority uses (hunting, fishing, wildlife observation, wildlife photography, environmental education, and interpretation) receive priority consideration during CCP preparation. Some of the topics to be addressed in the CCP include: wildlife and habitat management, habitat restoration, public use, and operation of a solar salt production facility.

Review of the CCP and associated EIS will be conducted in accordance with the requirements of the National Wildlife Refuge System Administration Act, as amended (16 U.S.C. 668dd-668ee), NEPA (42 U.S.C. 4321 et seq.), Federal regulations for implementing NEPA (40 CFR parts 1500-1508), other appropriate Federal laws and regulations, and Service policies and procedures for compliance with those regulations.

Refuge Information

The South San Diego Bay Unit of the San Diego NWR is located at the southern end of San Diego Bay in the Cities of Chula Vista, National City, San Diego, Coronado, and Imperial Beach, California. This Refuge supports a variety of habitats including open water, mudflats, coastal saltmarsh, and uplands. These habitats provide important feeding, resting, and nesting areas for thousands of migrating shorebirds, colonial nesting seabirds, wintering sea ducks, and other migratory waterfowl. In addition, the Refuge supports three Federally endangered bird species (California Least Tern, California Brown Pelican, and Light-footed Clapper Rail), a Federally endangered plant species (salt marsh bird's beak), the Federally threatened Western Snowy Plover and Pacific Green Sea Turtle, and the Belding's Savannah Sparrow, a bird species listed as endangered by the State of California. Included within the Refuge boundary is a solar salt production operation that maintains about 1,050 acres of salt ponds. These ponds provide large amounts of food in the form of brine shrimp, brine flies, and other brine invertebrates, all of which are particularly important for shorebirds and seabirds.

The Sweetwater Marsh NWR is located in the southeast end of San Diego Bay in the Cities of Chula Vista and National City, California. This Refuge, which includes 316 acres of salt marsh and coastal uplands, provides habitat for two Federally endangered bird species (California Least Tern and Light-footed Clapper Rail), a Federally endangered plant species (salt marsh bird's beak), the Federally threatened Western Snowy Plover, and the State endangered Belding's Savannah Sparrow. Sweetwater Marsh functions as an essential link between the habitats in the region's Multiple Species Conservation Program wildlands, the South San Diego Bay Unit of the San Diego NWR, and the Tijuana Slough NWR in Imperial Beach, California.

FOR FURTHER INFORMATION CONTACT: Victoria Touchstone, CCP Project Planner, at (619) 691-1185.

Dated: April 12, 2002.
D. Kenneth McDermond,
Deputy Manager, California/Nevada Operations Office, Fish and Wildlife Service, Sacramento, California.

[FR Doc. 02-9727 Filed 4-19-02; 8:45 am]

BILLING CODE 4310-55-P